DEPARTMENT OF LABOR

Employee Benefits Security Administration

[Application Number D-11657]

ZRIN EBSA-2012-0015

Proposed Amendment to Prohibited Transaction Exemption 2006-06 (PTE 2006-06) for Services Provided in Connection with the Termination of Abandoned Individual Account Plans

AGENCY: Employee Benefits Security Administration, U.S. Department of Labor.

ACTION: Notice of Extension of Comment Period for Proposed Amendment to PTE 2006-06.

SUMMARY: The Department of Labor (the Department) is extending the comment period for a proposed amendment to PTE 2006-06, a prohibited transaction class exemption issued under the Employee Retirement Income Security Act of 1974 (ERISA). PTE 2006-06 provides an exemption for certain transactions entered into on behalf of individual account pension plans that have been abandoned by their sponsors.

DATES: Written comments and requests for a public hearing must be received by the Department on or before March 18, 2013.

ADDRESSES: All written comments and requests for a public hearing concerning the proposed amendment should be sent to the Office of Exemption Determinations, Employee Benefits Security Administration, Room N-5700, U.S. Department of Labor, 200 Constitution Avenue NW., Washington, DC 20210, Attention: PTE 2006-06 Amendment. Comments may be submitted electronically by using the Federal eRulemaking portal at www.regulations.gov (follow instructions for submission of comments). Interested persons are also invited to submit comments and hearing requests to EBSA via email to: moffitt.betty@dol.gov or by fax to 202-219-0204 by the end of the scheduled comment period. The comments received will be available for public inspection in the Public Disclosure Room of the Employee Benefits Security Administration, U.S. Department of Labor, Room N-1513, 200 Constitution Avenue NW., Washington, DC 20210. Comments and hearing requests will also be available online at www.regulations.gov and www.dol.gov/ebsa, at no charge.

All comments will be made available to the public. Warning: Do not include any personally identifiable information (such as name, address, or other contact information), or confidential business information, that you do not want publicly disclosed. All comments may be posted on the Internet and can be retrieved by most Internet search engines.

FOR FURTHER INFORMATION CONTACT: Chris Motta, Office of Exemption Determinations, Employee Benefits Security Administration, U.S. Department of Labor, (202) 693-8540 (this is not a toll-free number).

SUPPLEMENTARY INFORMATION: On December 12, 2012, the Department published a notice of the pendency before the Department of a proposed amendment to PTE 2006-06. The amendment to PTE 2006-06 was proposed in connection with the Department's proposed amendment of regulations relating to the Termination of Abandoned Individual Account Plans, the Safe Harbor for Distributions from Terminated Individual Account Plans, and the Special Terminal Report for Abandoned Plans. PTE 2006-06 provides an exemption from the restrictions of ERISA section 406(a)(1)(A) through (D), ERISA section 406(b)(1) and (b)(2) and from the taxes imposed by section 4975(a) and (b) of the Internal Revenue Code of 1986 (the Code), by reason of Code section 4975(c)(1)(A) through (E).

The proposed amendment to PTE 2006-06 would expand the definition of a qualified termination administrator (a QTA) to include bankruptcy trustees and certain persons designated by such trustees to act as QTAs. The Department is proposing the amendment because it has determined that, in certain instances, it may be appropriate for a bankruptcy trustee to provide termination services to a plan.

The comment period was scheduled to close on February 11, 2013. Notice of the right to comment was provided in the Federal Register on December 12, 2012. However, due to administrative error, a copy of the proposed amendment to PTE 2006-06 was not posted to www.regulations.gov until January 22, 2013. Accordingly, the Department is extending the comment period for the proposed amendment to PTE 2006-06 to March 18, 2013.

Signed at Washington, DC, this 8th day of February, 2013.
Lyssa E. Hall,
Director, Office of Exemption Determinations, Employee Benefits Security Administration, U.S. Department of Labor.

[FR Doc. 2013-03463 Filed 2-13-13; 8:45 am]

BILLING CODE 4510-29-P